DEPARTMENT OF THE INTERIOR

Fish and Wildlife Service

[FWS-R2-ES-2015-N083; FXES11130200000-156-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before July 2, 2015.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-174552

Applicant: Animas Biological Studies, Durango, Colorado.

Applicant requests a renewal to a current permit for research and recovery purposes to conduct presence/absence surveys, nest monitoring, and banding of southwestern willow flycatchers (Empidonax traillii extimus) within Arizona, Colorado, New Mexico, and Utah.

Permit TE-71618A

Applicant: Museum of Southwestern Biology—University of New Mexico Herbarium, Albuquerque, New Mexico.

Applicant requests a renewal to a current permit for research and recovery purposes to collect seeds and voucher specimens of the following federally listed plants within New Mexico:

• Argemone pinnatisecta (Sacramento prickly poppy)

• Astragalus humillimus (Mancos milk-vetch)

• Cirsium vinaceum (Sacramento Mountains thistle)

• Coryphantha sneedii var. leei (Lee's pincushion cactus)

• Coryphantha sneedii var. sneedii (Sneed's pincushion cactus)

• Echinocereus fendleri var. kuenzieri (Kuenzler's hedgehog cactus)

• Erigeron rhizomatus (Zuni fleabane)

• Eriogonum gypsophilum (gypsum wild buckwheat)

• Hedeoma todsenii (Todsen's pennyroyal)

• Helianthus paradoxus (Pecos sunflower)

• Ipomopsis sancti-spiritus (Holy Ghost ipomopsis)

• Pediocactus knowltonii (Knowlton's cactus)

• Sclerocactus mesae-verdae (Mesa Verde cactus)

Permit TE-63202B

Applicant: Carol Chambers, Flagstaff, Arizona.

Applicant requests a new permit for research and recovery purposes to conduct presence/absence surveys of New Mexico meadow jumping mouse (Zapus hudsonius luteus) within Arizona, Colorado, and New Mexico.

Permit TE-27791B

Applicant: National Park Service—Montezuma and Tuzigoot National Monuments, Camp Verde, Arizona.

Applicant requests an amendment to a current permit for research and recovery purposes to conduct presence/absence surveys for southwestern willow flycatcher (Empidonax traillii extimus) within Arizona.

Permit TE-830213

Applicant: EcoPlan Associates, Inc., Mesa, Arizona.

Applicant requests an amendment to a current permit for research and recovery purposes to conduct presence/absence surveys for southwestern willow flycatcher (Empidonax traillii extimus) within California and Nevada.

Permit TE-63522B

Applicant: Laney Environmental Consulting, Muskogee, Oklahoma.

Applicant requests a new permit for research and recovery purposes to conduct presence/absence surveys of American burying beetle (Nicrophorus americanus) within Oklahoma.

Permit TE-170625

Applicant: Daniel Howard, Sioux Falls, South Dakota.

Applicant requests a renewal to a current permit for research and recovery purposes to conduct presence/absence surveys of American burying beetle (Nicrophorus americanus) within Arkansas, Kansas, Missouri, Oklahoma, and Texas.

Permit TE-63523B

Applicant: Medina Consulting Company, Inc., San Antonio, Texas.

Applicant requests a new permit for research and recovery purposes to conduct presence/absence surveys of golden-cheeked warbler (Dendroica chrysoparia) within Texas.

Permit TE-00975A

Applicant: Osage Nation—Department of Natural Resources, Pawhuska, Oklahoma.

Applicant requests an amendment to a current permit for research and recovery purposes to conduct presence/absence surveys of Neosho madtom (Lampsilis rafinesqueana) within Oklahoma.

Permit TE-37484A

Applicant: U.S. Fish and Wildlife Service—Balcones Canyonlands National Wildlife Refuge, Marble Falls, Texas.

Applicant requests a renewal to a current permit for research and recovery purposes to conduct presence/absence surveys, banding, and nest monitoring of golden-cheeked warbler (Dendroica chrysoparia) and black-capped vireo (Vireo atricapilla) within Texas.

Permit TE-236730

Applicant: Timothy Bonner, San Marcos, Texas.

Applicant requests an amendment to a current permit for research and recovery purposes to collect 2,000 fountain darters (Etheostoma fonticola) from the wild in Texas, as well as using 350 captive-bred and 120 wild-caught fish for a predation study at Texas State University.

Permit TE-023643

Applicant: U.S. Army Garrison, Fort Hood, Texas.

Applicant requests a renewal to a current permit for research and recovery purposes to conduct presence/absence surveys for golden-cheeked warbler (Dendroica chrysoparia) and black-capped vireo (Vireo atricapilla) within Texas.

Permit TE-011464

Applicant: Caryn Vaughn, Norman, Oklahoma.

Applicant requests a renewal to a current permit for research and recovery purposes to conduct presence/absence surveys for Ouachita pocketbook (Arcidens =Arkansia wheeleri), scaleshell (Leptodea leptodon), and winged mapleleaf (Quadrula fragosa) mussels within Oklahoma.

Permit TE-146537

Applicant: New Mexico State Land Office, Santa Fe, New Mexico.

Applicant requests a renewal to a current permit for research and recovery purposes to conduct presence/absence surveys for southwestern willow flycatcher (Empidonax traillii extimus) and Rio Grande silvery minnow (Hybognathus amarus) within New Mexico.

Permit TE-64616B

Applicant: National Park Service—Valles Caldera National Preserve, Jemez Springs, New Mexico.

Applicant requests a new permit for research and recovery purposes to conduct presence/absence surveys of Jemez Mountain salamander (Plethodon neomexicanus) within New Mexico.

Permit TE-64622B

Applicant: Kathy Granillo, Socorro, New Mexico.

Applicant requests a new permit for research and recovery purposes to conduct presence/absence surveys of southwestern willow flycatcher (Empidonax traillii extimus) within New Mexico.

Permit TE-38748A

Applicant: Carlotta Copper Company, Fort Collins, Colorado.

Applicant requests a renewal to a current permit for research and recovery purposes to conduct seed collection and cactus propagation, and to construct receiving areas and transplantation for Arizona hedgehog cactus (Echinocereus triglochidiatus var. arizonicus) within Arizona.

Permit TE-64624B

Applicant: Cassidy Johnson, Houston, Texas.

Applicant requests a new permit for research and recovery purposes to conduct the following activities for Houston toad (Bufo houstonensis) within Texas: Presence/absence surveys, transportation and storage of frozen samples, transportation of live species for education and outreach, and possession of one retired male toad for education and outreach purposes.

Permit TE-206016

Applicant: Andrew Middick, Edmond, Oklahoma.

Applicant requests an amendment to a current permit for research and recovery purposes to conduct presence/absence surveys of American burying beetle (Nicrophorus americanus) within Ohio.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: May 14, 2015.
Joy E. Nicholopoulos,
Acting Regional Director, Southwest Region, U.S. Fish and Wildlife Service.

[FR Doc. 2015-13341 Filed 6-1-15; 8:45 am]

BILLING CODE 4310-55-P